DEPARTMENT OF ENERGY

Federal Energy Regulatory Commission

[Project No. 459-111]

Notice of Draft License Application and Preliminary Draft Environmental Assessment (PDEA) and Request for Preliminary Terms and Conditions

August 6, 2003.

Take notice that the following hydroelectric application has been filed with the Commission and is available for public inspection:

a. Type of Application: New Major License.

b. Project No.: 459-111.

c. Applicant: Union Electric Company (d/b/a Ameren/UE).

d. Name of Project: Osage Hydroelectric Project.

e. Location: On the Osage River, in Benton, Camden, Miller and Morgan Counties, central Missouri. The Project occupies federal lands.

f. Applicant Contact: Jerry Hogg, Ameren/UE, 617 River Road, Eldon, MO 65026; (573) 365-9315; e-mail jhogg@ameren.com.

g. FERC Contact: Allan Creamer at (202) 502-8365; or e-mail at allan.creamer@ferc.gov.

h. Ameren/UE mailed a copy of the Preliminary Draft Environmental Assessment (PDEA) and draft license application to interested parties on July 10, 2003. The Commission received a copy of the PDEA and draft application on July 11, 2003. Copies of both documents are available from Ameren/UE at the above address.

i. With this notice we are soliciting preliminary terms, conditions, recommendations, prescriptions, and comments on the PDEA and draft license application. All comments on the PDEA and draft license application should be sent to the address above in item (f), with one copy filed with the Commission at the following address: Federal Energy Regulatory Commission, Magalie R. Salas, Secretary, 888 First Street, NE., Washington, DC 20426. All comments must include the project name and number, and bear the heading “Preliminary Comments,” “Preliminary Recommendations,” “Preliminary Terms and Conditions,” or “Preliminary Prescriptions.” Any party interested in commenting must do so before October 9, 2003.

j. With this notice, we are initiating consultation with the state historic preservation officer, as required by Section 106, National Historic Preservation Act, and the regulations of the Advisory Council on Historic Preservation, 36 CFR 800.4.

Magalie R. Salas,
Secretary.

[FR Doc. 03-20616 Filed 8-12-03; 8:45 am]

BILLING CODE 6717-01-P